DEPARTMENT OF THE INTERIOR

National Park Service

National Register of Historic Places; Notification of Pending Nominations and Related Actions

Nominations for the following properties being considered for listing or related actions in the National Register were received by the National Park Service before November 26, 2005. Pursuant to § 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service, 1201 Eye St. NW., 8th floor, Washington DC 20005; or by fax, 202-371-6447. Written or faxed comments should be submitted by December 22, 2005.

John W. Roberts,
Acting Chief, National Register/National Historic Landmarks Program.

CALIFORNIA

Fresno County

San Joaquin Light & Power Corporation Building, 1401 Fulton St., Fresno, 05001497

Los Angeles County

Hotel Chancellor, 3191 W. Seventh St., Los Angeles, 05001496

Santa Fe Coast Lines Hospital, 610-30 S. Louis St., Los Angeles, 05001499

Santa Fe Freight Depot, 970 E. 3rd St., Los Angeles, 05001498

PENNSYLVANIA

Northampton County

South Bethlehem Downtown Historic District, Roughly bounded by Wyandotte, Columbia, Hayes, and Morton St., Bethlehem, 05001500

WASHINGTON

Pend Oreille County

Phillips, Dr. John and Viola, House and Office, S. 337 Spokane Ave., Newport, 05001501

[FR Doc. E5-6962 Filed 12-6-05; 8:45 am]

BILLING CODE 4312-51-P